DEPARTMENT OF AGRICULTURE

Agricultural Marketing Service

[Doc. No. AMS-FGIS-23-0002]

Opportunities in 2023 for United States Grain Standards Act Designation in Jamestown, ND; Lincoln, Nebraska; Memphis, Tennessee; Topeka, KS; Cedar Rapids, IA; Minot, ND; Cincinnati, OH; Pocatello, ID; Evansville, IN; West Sacramento, CA and Richmond, VA; Intent To Certify Delegated Agencies Virginia Department of Agriculture and Consumer Services and Wisconsin Department of Agriculture

AGENCY: Agricultural Marketing Service, USDA.

ACTION: Notice; request for comments.

SUMMARY: The United States Grain Standards Act (USGSA) designations of the official agencies listed in SUPPLEMENTARY INFORMATION below will end on the prescribed dates. The Agricultural Marketing Service (AMS) is seeking persons or governmental agencies interested in providing official services in the areas presently served by these agencies to apply for designation. Designation provides for private entities or state governmental agencies to be an integral part of the official grain inspection system (https://www.ams.usda.gov/services/fgis/official-grain-inspection-weighing-system). Designated agencies work under the supervision of the Federal Grain Inspection Service (FGIS) and are authorized to provide official inspection and weighing services in a defined geographic area. In addition, we request comments on the quality of services provided by the following designated agencies: Grain Inspection, Inc. (Jamestown); Lincoln Grain Inspection Service, Inc. (Lincoln); Midsouth Grain Inspection Service (Midsouth); Kansas Grain Inspection Service, Inc. (Kansas); Mid-Iowa Grain Inspection, Inc. (Mid-Iowa); Minot Grain Inspection, Inc. (Minot); Tri-State Grain Inspection, Inc. (Tri-State); Idaho Grain Inspection Service, Inc. (Idaho); Ohio Valley Grain Inspection, Inc. (Ohio Valley); California Agri Inspection Co., Ltd. (California); and Virginia Department of Agriculture and Consumer Services (Virginia). AMS encourages submissions from traditionally underrepresented individuals, organizations, and businesses to reflect the diversity of this industry. AMS encourages submissions from qualified applicants, regardless of race, color, age, sex, sexual orientation, gender identity, national origin, religion, disability status, protected veteran status, or any other characteristic protected by law. AMS is also asking for comments on the quality of official services at export port locations provided by delegated state agencies Virginia Department of Agriculture and Consumer Services (Virginia) and Wisconsin Department of Agriculture (Wisconsin). AMS considers comments and other available information when determining certification.

DATES: Comments for delegated state agency Wisconsin must be received by May 1, 2023.

Applications and comments for areas of designation terminating on March 31, 2023, currently operated by Jamestown, Lincoln, and Midsouth must be received by May 1, 2023.

Applications and comments for areas of designation terminating on June 30, 2023, currently operated by Kansas, Mid-Iowa, Minot and Tri-State must be received between April 1, 2023, and April 30, 2023.

Applications and comments for areas of designation terminating on September 30, 2023, currently operated by Idaho and Ohio Valley must be received between July 1, 2023, and July 31, 2023.

Applications and comments for areas of designation terminating on December 31, 2023, currently operated by California and Virginia must be received between October 1, 2023, and October 31, 2023.

Comments on the quality of official services at export port locations provided by delegated state agency Virginia must be received between October 1, 2023-October 31, 2023.

ADDRESSES: Submit applications and comments concerning this Notice using the following methods:

• To apply for USGSA Designation: You will need to obtain an FGISonline customer number (CIM) and create a USDA eAuthentication account at https://www.eauth.usda.gov/eauth/b/usda/home prior to applying. Then go to FGISonline at https://fgisonline.ams.usda.gov/ and then click on the Delegations/Designations and Export Registrations (DDR) link. Applicants are encouraged to begin the designation application process early and allow time for system authentication.

• To submit Comments Regarding Current Designated and/or Delegated Official Agencies: Go to Regulations.gov (https://www.regulations.gov). Instructions for submitting and reading comments are detailed on the site. All comments must be submitted through the Federal e-rulemaking portal at https://www.regulations.gov and should reference the document number and the date and page number of this issue of the Federal Register. All comments submitted in response to this notice will be included in the record and will be made available to the public. Please be advised that the identity of the individuals or entities submitting comments will be made public on the internet at the address provided above.

Read Applications and Comments: If you would like to view the applications, please contact FGISQACD@usda.gov. All comments will be available for public viewing online at https://www.regulations.gov.

FOR FURTHER INFORMATION CONTACT: J. Ricardo Espitia, Compliance Officer, Federal Grain Inspection Service, AMS, USDA; Telephone: (202) 699-0246; or Email: FGISQACD@usda.gov.

SUPPLEMENTARY INFORMATION: The designations of the official agencies listed below will end on the prescribed dates:

Official agency | Headquarters location and telephone | Designation end | Applications/comments open period
Grain Inspection, Inc | Jamestown, ND, 701-252-1290 | 3/31/2023 | 30 Days After Publication.
Lincoln Grain Inspection Service, Inc | Lincoln, NE, 402-435-4386 | 3/31/2023 | 30 Days After Publication.
Midsouth Grain Inspection Service | Memphis, TN, 901-942-3216 | 3/31/2023 | 30 Days After Publication.
Kansas Grain Inspection Service, Inc | Topeka, KS, 785-233-7063 | 6/30/2023 | 04/01/2023-04/30/2023.
Mid-Iowa Grain Inspection, Inc | Cedar Rapids, IA, 319-363-0239 | 6/30/2023 | 04/01/2023-04/30/2023.
Minot Grain Inspection, Inc | Minot, ND, 701-838-1734 | 6/30/2023 | 04/01/2023-04/30/2023.
Tri-State Grain Inspection, Inc | Cincinnati, OH, 513-251-6571 | 6/30/2023 | 04/01/2023-04/30/2023.
Idaho Grain Inspection Service, Inc | Pocatello, ID, 208-233-8303 | 9/30/2023 | 07/01/2023-07/31/2023.
Ohio Valley Grain Inspection, Inc | Evansville, IN, 812-423-9010 | 9/30/2023 | 07/01/2023-07/31/2023.
California Agri Inspection Co., Ltd | Sacramento, CA, 916-374-9700 | 12/31/2023 | 10/01/2023-10/31/2023.
Virginia Department of Agriculture and Consumer Services | Richmond, VA, 757-494-2455 | 12/31/2023 | 10/01/2023-10/31/2023.

Section 7(f) of the United States Grain Standards Act (USGSA) authorizes the Secretary to designate a qualified applicant to provide official services in a specified area after determining that the applicant is better able than any other applicant to provide such official services (7 U.S.C. 79(f)). A designated agency may provide official inspection service and/or Class X or Class Y weighing services at locations other than port locations. Under section 7(g) of the USGSA, designations of official agencies are effective for no longer than five years, unless terminated by the Secretary, and may be renewed according to the criteria and procedures prescribed in section 7(f) of the USGSA. See also, 7 CFR 800.196 for further information and guidance.

Additionally, the USGSA Section 7(e) (7 U.S.C. 79(e)), requires the Secretary of Agriculture (Secretary) to certify, every five years, that each State agency with a delegation of authority is meeting the criteria described for carrying out inspections on behalf of the Secretary. This certification process includes: (1) Publishing, in the Federal Register, a notice of intent to certify a State agency and provide a 30-day period for public comment; (2) evaluating the public comments received; and (3) conducting an investigation to determine whether the State agency is qualified. Findings must be based on public comments received and investigation conducted. Once concluded, USDA will publish a Federal Register notice announcing whether the certification has been granted, describing the basis on which the Secretary made the decision.

Designation Application Locations

The following list identifies the currently operating designated official agencies and the specific areas of operation for designation applications. These are listed in order of anticipated designation termination date.

Jamestown: Areas of designation include parts of North Dakota and Minnesota. Please see the April 18, 2018, issue of the Federal Register (83 FR 17138) for descriptions of the areas open for designation.

Lincoln: Areas of designation include parts of Iowa and Nebraska. Please see the September 05, 2017, issue of the Federal Register (82 FR 41913) for descriptions of the areas open for designation.

Midsouth: Areas of designation include parts of Arkansas, Mississippi, Tennessee, and Texas. Please see the September 05, 2017, issue of the Federal Register (82 FR 41911) for descriptions of the areas open for designation.

Kansas: Areas of designation include parts of Colorado, Kansas, Nebraska, and Wyoming. Please see the February 11, 2015, issue of the Federal Register (80 FR 7564) for descriptions of the areas open for designation.

Mid-Iowa: Areas of designation include parts of Iowa, Illinois, and Minnesota. Please see the February 10, 2020, issue of the Federal Register (85 FR 7527) for descriptions of the areas open for designation.

Minot: Areas of designation include parts of North Dakota. Please see the February 11, 2015, issue of the Federal Register (80 FR 7564) for descriptions of the areas open for designation.

Tri-State: Areas of designation include parts of Indiana, Kentucky, and Ohio.

• In Indiana: Dearborn, Decatur, Franklin, Ohio, Ripley, Rush (south of State Route 244), and Switzerland Counties.

• In Kentucky: Bath, Boone, Bourbon, Bracken, Campbell, Clark, Fleming, Gallatin, Grant, Harrison, Kenton, Lewis (west of State Route 59), Mason, Montgomery, Nicholas, Owen, Pendleton, and Robertson Counties.

• In Ohio: Bounded on the north by the northern Preble County line east; the western and northern Miami County lines east to eastern Miami County line; eastern Miami County line south to U.S. 36; U.S. 36 east to State Route 560; State Route 560 south to Valley Pike Road; Valley Pike Road south to the Clark County line; the northern Clark County line east to U.S. Route 68; bounded on the east by U.S. Route 68 south to U.S. Route 22; U.S. Route 22 east to State Route 73; State Route 73 southeast to the Adams County line; the eastern Adams County line; bounded on the south by the southern Adams, Brown, Clermont, and Hamilton County lines; and bounded on the west by the western Hamilton, Butler, and Preble County lines.

Idaho: Areas of designation include parts of Idaho. Please see the July 01, 2015, issue of the Federal Register (80 FR 37581) for descriptions of the areas open for designation.

Ohio Valley: Areas of designation include parts of Indiana, Kentucky, and Tennessee. Please see the July 01, 2015, issue of the Federal Register (80 FR 37581) for descriptions of the areas open for designation.

California: Areas of designation include parts of the State of California. Please see the July 01, 2015, issue of the Federal Register (80 FR 37580) for descriptions of the areas open for designation.

Virginia: Areas of designation include the entire state of Virginia except export port locations within the state. Please see the July 01, 2015, issue of the Federal Register (80 FR 37580) for descriptions of the areas open for designation.

Opportunity for Designation

Interested persons or governmental agencies may apply for designation to provide official services in the geographic areas of the official agencies specified above under the provisions of section 7(f) of the USGSA and 7 CFR 800.196. Designations in the specified geographic areas for Jamestown, Lincoln, and Midsouth will occur no sooner than April 1, 2023. Designations in the specified geographic areas for Kansas, Mid-Iowa, Minot and Tri-State will occur no sooner than July 1, 2023. Designations in the specified geographic areas for Idaho and Ohio Valley will occur no sooner than October 1, 2023. Designations in the specified geographic areas for California and Virginia will occur no sooner than January 1, 2024. To apply for designation or to request more information on the geographic areas serviced by these official agencies contact FGISQACD@usda.gov.

Please note that sampling, weighing, and inspection services may be offered by designated agencies under the Agricultural Marketing Act of 1946 for other commodities under the auspices of FGIS through separate cooperative service agreements with AMS. The service area for such cooperative agreements mirrors the USGSA designation area. For further information, see 7 U.S.C. 1621 et seq or contact FGISQACD@usda.gov.

Areas of Delegation

Virginia

Pursuant to Section 7(e)(2) of the USGSA, the following export port locations in the State of Virginia are assigned to this State agency.

In Virginia: All export port locations in the State of Virginia.

Wisconsin

Pursuant to Section 7(e)(2) of the USGSA, the following export port locations in the State of Wisconsin are assigned to this State agency.

In Wisconsin: All export port locations in the State of Wisconsin.

Authority: 7 U.S.C. 71-87k.

Melissa Bailey,
Associate Administrator, Agricultural Marketing Service.

[FR Doc. 2023-06642 Filed 3-29-23; 8:45 am]

BILLING CODE P